DEPARTMENT OF THE INTERIOR

National Park Service

[NPS-WASO-NRNHL-10874; 2200-3200-665]

National Register of Historic Places; Notification of Pending Nominations and Related Actions

Nominations for the following properties being considered for listing or related actions in the National Register were received by the National Park Service before July 14, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by August 27, 2012. Before including your address, phone number, email address, or other personal identifying information in your comment, you should be aware that your entire comment—including your personal identifying information—may be made publicly available at any time. While you can ask us in your comment to withhold your personal identifying information from public review, we cannot guarantee that we will be able to do so.

Dated: July 18, 2012.
J. Paul Loether,
Chief, National Register of Historic Places/National Historic Landmarks Program.

ARIZONA

Pima County

Tucson Veterans Administration Hospital Historic District (United States Second Generation Veterans Hospitals MPS), 3601 S. 6th Ave., Tucson, 12000548

CALIFORNIA

Orange County

Fullerton Post Office, 202 E. Commonwealth Ave., Fullerton, 12000549

COLORADO

Arapahoe County

Arapaho Hills (Residential Subdivisions of Metropolitan Denver, 1940-1965 MPS), Bounded by Arrowhead, W. Berry, & S. Manitou Rds., S. Lowell Blvd., Littleton, 12000550

GEORGIA

Hall County

Alta Vista Cemetery, 521 Jones St., Gainesville, 12000551

Troup County

Eastside Historic District, Roughly bounded by Ave. A, Ave. P, E. 12th, & E. 3rd Sts., West Point, 12000552

ILLINOIS

McDonough County

Bailey, William S., House, 100 S. Campbell St., Macomb, 12000553

Winnebago County

Greenwood Cemetery Chapel and Crematory, 1011 Auburn St., Rockford, 12000554

Laurent, Kenneth and Phyllis, House, 4646 Spring Brook Rd., Rockford, 12000555

KENTUCKY

Madison County

Elmwood, Lancaster Ave., Richmond, 84003927

LOUISIANA

Rapides Parish

Myrtlewood, 2301 Military Hwy., Pineville, 12000556

MICHIGAN

Eaton County

Island City Historic District, N. & S. Main, E. & W. Hamlin, E. & W. Knight, King, Hall, & Spicer Sts., Eaton Rapids, 12000557

MINNESOTA

Aitkin County

ANDY GIBSON (shipwreck) (Shipwrecks of Minnesota's Inland Lakes and Rivers MPS), Address Restricted, Aitkin, 12000558

Kandiyohi County

Kasota Lake Site, Address Restricted, Kandiyohi, 12000559

St. Louis County

MAY FLOWER (shipwreck) (Minnesota's Lake Superior Shipwrecks MPS), Address Restricted, Lester Park, 12000560

MISSISSIPPI

Clay County

West Point Unified Historic District (Boundary Increase), 117, 123, 133 West Broad St., West Point, 12000561

MISSOURI

Lewis County

First Presbyterian Church (Rural Church Architecture of Missouri, c. 1819 to c. 1945 MPS), 401 Jefferson, La Grange, 12000562

New Madrid County

Hunter-Dawson House, 312 Dawson Rd., New Madrid, 12000563

NEBRASKA

Cass County

Pitz, Gottfried Gustav, Barn, 903 Livingston Rd., Plattsmouth, 12000564

Lancaster County

Brownbilt Residential Historic District, Bounded by A, D, S. 37th to S. 40th Sts., Lincoln, 12000565

Kirkwood, Rose, Brothel, 124 S. 9th St., Lincoln, 12000566

Otoe County

Massow, Joachim-Schultz, Charles and Annie, House, 4250 F Rd., Dunbar, 12000567

NEW JERSEY

Essex County

Day Street Public School, 29 N. Day St., Orange, 12000568

Hudson County

Reservoir No. 3, Bounded by Summit, Jefferson, Central & Reservoir Aves., Jersey City, 12000569

Union County

Strong, George A., House, 1030 Central Ave., Plainfield, 12000570

NEW YORK

Niagara County

Lower Niagara River Spear Fishing Docks Historic District, Address Restricted, Lewiston, 12000578

NORTH CAROLINA

Davidson County

Randolph Street Historic District, 100-200 blk. of Randolph St., & 10 W. Colonial Dr., Thomasville, 12000571

Duplin County

Blanchard, Joshua James, House (Duplin County MPS), 415 Carrolls Rd., Warsaw, 12000572

Forsyth County

Hanes, Robert M., House, 140 N. Stratford Rd., Winston-Salem, 12000573

Guilford County

Jay, Allen, School Rock Gymnasium, 1201 E. Fairfield Rd., High Point, 12000574

Summerfield School Gymnasium and Community Center, 7515 Trainer Dr., Summerfield, 12000575

Halifax County

Bethesda Methodist Protestant Church, 30974 NC 561, Brinkleyville, 12000576

Madison County

Capitola Manufacturing Company Cotton Yarn Mill, SE. end of Bridge No. 328 over French Broad R., Marshall, 12000577

Pitt County

Dupree-Moore Farm, 3901 Buck Moore Rd., Falkland, 12000579

Rutherford County

Bostic Charge Parsonage, 149 Old Sunshine Rd., Bostic, 12000580

Surry County

Mount Airy Historic District (Boundary Increase), Willow & W. Oak Sts., Mount Airy, 12000581

PUERTO RICO

Barceloneta Municipality

Maceira, Rafael Balseiro, School (Early Twentieth Century Schools in Puerto Rico TR), Georgetti St. No. 1, Barceloneta, 12000583

Cidra Municipality

La Bolero (Early Prototypes for Manufacturing Plants in Puerto Rico, 1948-1958 MPS), PR 173, 0.5km, Cidra, 12000584

Morovis Municipality

Fontan, Jose, School (Early Twentieth Century Schools in Puerto Rico TR), Del Carmen St. corner with calle principal final, Morovis, 12000582

RHODE ISLAND

Newport County

WEATHERLY (sloop), 49 America's Cup Blvd., Newport, 12000585

Providence County

Glenark Mills (Boundary Increase), 64 East St., Woonsocket, 12000586

TEXAS

Hutchinson County

Hutchinson County Courthouse, 500 S. Main St., Stinnett, 12000587

Tarrant County

Foster, Eldred W., House, 9608 Heron Dr., Fort Worth, 12000589

Taylor County

Abilene High School (Abilene MPS), 1699 S. 1st St., Abilene, 12000588

Travis County

Bertram Building, 1601 Guadalupe St., Austin, 12000590

UTAH

Weber County

Lomond, Ben, Hotel Garage, 455 25th St., Ogden, 12000591

A request to move has been made for the following resource:

MISSISSIPPI

Lee County

Spain House, 553 W. Main St., Tupelo, 11000109

A request for removal has been made for the following resources:

ILLINOIS

Rock Island County

Villa de Chantal Historic District, 2101 16th Ave., Rock Island, 05000432

Will County

Ninth Street Seven Arch Stone Bridge, Ninth St. spanning Deep Run Creek, Lockport, 04000866

[FR Doc. 2012-19597 Filed 8-9-12; 8:45 am]

BILLING CODE 4312-51-P